DEPARTMENT OF TRANSPORTATION

Federal Railroad Administration

[Docket No. FRA-2017-0002-N-22]

Proposed Agency Information Collection Activities; Comment Request

AGENCY: Federal Railroad Administration (FRA), Department of Transportation (DOT).

ACTION: Notice of information collection; request for comment.

SUMMARY: Under the Paperwork Reduction Act of 1995 (PRA), this notice announces that FRA is forwarding the Information Collection Request (ICR) abstracted below to the Office of Management and Budget (OMB) for review and comment. The ICR describes the information collection and its expected burden. On May 22, 2017, FRA published a notice providing a 60-day period for public comment on the ICR.

DATES: Comments must be submitted on or before September 13, 2017.

FOR FURTHER INFORMATION CONTACT: Mr. Robert Brogan, Information Collection Clearance Officer, Office of Railroad Safety, Regulatory Analysis Division, RRS-21, Federal Railroad Administration, 1200 New Jersey Avenue SE., Mail Stop 25, Washington, DC 20590 (Telephone: (202) 493-6292); or Ms. Kim Toone, Information Collection Clearance Officer, Office of Administration, Office of Information Technology, RAD-20, Federal Railroad Administration, 1200 New Jersey Avenue SE., Mail Stop 35, Washington, DC 20590 (Telephone: (202) 493-6132).

SUPPLEMENTARY INFORMATION: The PRA, 44 U.S.C. 3501-3520, and its implementing regulations, 5 CFR part 1320, require Federal agencies to issue two notices seeking public comment on information collection activities before OMB may approve paperwork packages. 44 U.S.C. 3506, 3507; 5 CFR 1320.5, 1320.8(d)(1), and 1320.10. On May 22, 2017, FRA published a 60-day notice in the Federal Register soliciting comment on the ICR for which it is now seeking OMB approval. See 82 FR 17498. FRA received no comments in response to that notice.

Before OMB decides whether to approve these proposed collections of information, it must provide 30 days for public comment. 44 U.S.C. 3507(b); 5 CFR 1320.10. Federal law requires OMB to approve or disapprove paperwork packages between 30 and 60 days after the 30-day notice is published. 44 U.S.C. 3507(b)-(c); 5 CFR 1320.10; see also 60 FR 44978, 44983, Aug. 29, 1995. OMB believes the 30-day notice gives the regulated community to the opportunity to file relevant comments and affords the agency adequate time to digest public comments before it renders a decision. Id. Therefore, respondents should submit their respective comments to OMB within 30 days of publication to best ensure having their full effect.

The summary below describes the ICR and its expected burden. FRA is submitting this renewal request for clearance by OMB as the PRA requires.

Title: Survey of Plant and Insular Tourist Railroads Subject to FRA Bridge Safety Standards (49 CFR part 237).

OMB Control Number: 2130-0617.

Abstract: FRA's Bridge Safety Standards (49 CFR part 237) apply to all owners of railroad track with a gage of 2 feet or more supported by a bridge. This includes track owners with bridges located within an installation which is not part of the general railroad system of transportation (general system), but over which a general system railroad operates (i.e., bridges within an insular tourist railroad, and bridges within an industrial installation (plant) that is not part of the general system, but over which a general system railroad operates). Currently, FRA relies on the railroad accident/incident reports (49 CFR part 225) to identify track owners subject to the requirements of part 237. However, plant and insular tourist railroads are exempt from 49 CFR part 225 (Railroad Accidents/Incidents: Reports, Classification, and Investigations). FRA wants to identify plant and insular tourist railroads that may be subject to part 237 requirements, but are exempt from part 225 reporting requirements. FRA will use this information to help evaluate risks related to railroad safety and to plan oversight activities.

FRA is requesting any railroad serving a plant and moving railroad equipment over bridges within the plant, or the plant itself, to advise FRA by email if there are railroad bridges within the plant potentially subject to FRA Bridge Safety Standards. FRA is also requesting insular tourist railroads whose tracks are supported by one or more bridges to advise FRA of the existence of their bridges by email. Email notifications should be sent to FRAPlantTouristSurvey@dot.gov and should include the name of the plant, installation, or insular tourist railroad, and that entity's address (including city and State, contact name, telephone number, and email address). Notification may also be made by telephone to Yujiang Zhang at (202) 493-6460. This survey is ongoing with approval requested for 3 years.

Type of Request: Extension without change of a previously approved information collection.

Affected Public: Freight railroads, industrial installations (plants), insular tourist railroads.

Form(s): N/A.

Total Estimated Annual Responses: 210.

Total Estimated Annual Burden: 53 hours.

Addressee: Send comments regarding these information collections to the Office of Information and Regulatory Affairs, Office of Management and Budget, 725 17th Street NW., Washington, DC 20503, Attention: FRA Desk Officer. Comments may also be sent via email to OMB at the following address: oira_submissions@omb.eop.gov.

FRA requests comment on all aspects of this ICR, but commenters should focus on the following: Whether the proposed collection of information is necessary for DOT to properly perform its functions, including whether the information will have practical utility; the accuracy of DOT's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Sarah L. Inderbitzin,
Deputy Chief Counsel.

[FR Doc. 2017-17115 Filed 8-11-17; 8:45 am]

BILLING CODE 4910-06-P